DEPARTMENT OF THE INTERIOR

National Park Service

Notice of Proposed Land Exchange: U.S. Reservation 515

SUMMARY: Notice is hereby given that the National Park Service (NPS) is proposing to conduct an exchange of perpetual easement interests with Saint Paul's English Lutheran Church, (St. Paul's) located at 4900 Connecticut Avenue, NW., Washington, DC.

FOR FURTHER INFORMATION CONTACT: Chief, Land Resources Program Center, National Capital Region, National Park Service, 1100 Ohio Drive, SW., Washington, DC 20242.

SUPPLEMENTARY INFORMATION: Public Law 90-401, enacted July 15, 1968, authorizes the Secretary of the Interior to accept title to any non-Federal property or interests therein within a unit of the National Park System or miscellaneous area under his administration, and in exchange therefore he may convey to the grantor of such property or interest any Federally-owned property or interest therein under his jurisdiction which he determines is suitable for exchange or other disposal and which is located in the same state as the non-Federal property to be acquired. Such an exchange of land or interests therein must be conducted in accordance with all NPS Land Exchange Guidelines.

As proposed, NPS intends to convey to St. Paul's certain interests in land located within U.S. Reservation 515, Washington, DC, and more particularly identified as portions of Lot 809, Square 1983. Specifically, NPS will convey to St. Paul's easement interests in 3 parcels containing 2,341 square feet, 1,035 square feet and 342 square feet, respectively, to allow St. Paul's to construct a designated handicapped parking area and paving associated with a proposed colonnade and connecting walkways located adjacent to the existing church structure. In return, St. Paul's will convey to NPS certain interests in 2 adjacent parcels of land more particularly identified as portions of Lot 64 in Square 1983 and containing 6,197 square feet and 424 square feet, respectively. The easement interests St. Paul's will convey to NPS are intended to retain and enhance the continuity of open space within that portion of U.S. Reservation 515, located adjacent to St. Paul's property.

A recently completed independent appraisal of the land interests to be conveyed as part of the proposed exchange indicates that the respective land interests are of equal value.

NPS has concluded that the proposed exchange of land interests will have no impact either directly or indirectly on natural or cultural resources associated with U.S. Reservation 515.

Detailed information concerning this proposed exchange is available from the Land Resources Program Center, National Capital Region, National Park Service, 1100 Ohio Drive, SW., Washington, DC 20242.

For a period of 45 calendar days from the date of this notice, interested parties may submit comments to the above address. Adverse comments will be evaluated and this action may be modified or vacated accordingly. In the absence of any action to modify or vacate, this realty action will become the final determination of the NPS.

Dated: February 9, 2000.
Joseph M. Lawler,
Acting Regional Director, National Capital Region.

[FR Doc. 00-4830 Filed 2-29-00; 8:45 am]

BILLING CODE 4310-70-M